DEPARTMENT OF ENERGY

Federal Energy Regulatory Commission

[Docket No. EL01-52-000]

Barnet Hydro Company, et al. v. Central Vermont Public Service Corp., et al.; Notice of Complaint

March 16, 2001.

Take notice that on March 15, 2001, Barnet Hydro Company, Comtu Falls, Dodge Falls Associates L.P., Emerson Falls Hydro, Inc., Hydro Energies Corporation, Killington Hydroelectric Company, Kingsbury Hydro, Martinsville Water Power, Moretown Energy Company, Missisquoi Associates, Nantanna Mill, Newbury Hydro, Ottauquechee Hydro Company, Inc., Ryegate Associates, Springfield Hydroelectric Company, Winooski Hydroelectric Company, Winooski One Partnership, Woodside Hydro, Worcester Hydro, and Vermont Marble Power Division of OMYA, Inc. (collectively, the Vermont QFs) filed a complaint against Central Vermont Public Service Corporation, Barton Village Incorporated Electric Department, Village of Enosburg Falls Electric Light Department, Village of Hyde Park Electric Department, Village of Jacksonville Electric Department, Village of Johnson Electric Light Department, Village of Ludlow Electric Light Department, Village of Lyndonville Electric Department, Village of Morrisville Water & Light Department, Northfield Electric Department, Village of Orleans Electric Department, Town of Readsboro Electric Department, Stowe Electric Department, and Village of Swanton Electric Department (collectively, the Vermont Utilities), requesting that the Commission issue an order preventing the Vermont Utilities from employing Order 888 to force the Vermont QFs, either directly or indirectly, to reserve transmission service and pay transmission charges in order to sell the electric power they generate to the Vermont Utilities under the regulations adopted in the State of Vermont to implement the Public Utility Regulatory Policies Act of 1978.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before April 4, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before April 4, 2001. Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-7118 Filed 3-21-01; 8:45 am]

BILLING CODE 6717-01-M